DEPARTMENT OF THE TREASURY

Customs Service

[T.D. 00-6]

Bonds; Approval To Use Authorized Facsimile Signatures and Seals

The use of facsimile signatures and seals on Customs bonds by the following corporate sureties has been approved effective this date: Hartford Casualty Insurance Company, Hartford Fire Insurance Company.

Authorized facsimile signature on file for: James M. Gorman, Attorney-in-fact.

The corporate sureties have provided the Customs Service with a copy of the signature to be used, copies of the corporate seals, and certified copies of the corporate resolutions agreeing to be bound by the facsimile signatures and seals. This approval is without prejudice to the sureties' right to affix signatures and seals manually.

Dated: January 19, 2000.
Jerry Laderberg,
Chief, Entry Procedures and Carriers Branch.

[FR Doc. 00-1683 Filed 1-24-00; 8:45 am]

BILLING CODE 4820-02-P